DEPARTMENT OF ENERGY

Federal Energy Regulatory Commission

[Docket No. EL12-62-000]

PPL Montana, LLC; Notice of Meeting

a. Date and Time of Meeting: Thursday, June 7, 2012 at 1:00 p.m. EDT.

b. Place: Federal Energy Regulatory Commission, 888 First St. NE., Washington, DC 20426, Room 3M-1.

c. FERC Contact: Gary Cohen, (202) 502-8321 or gary.cohen@ferc.gov.

d. Purpose of Meeting: Commission staff will meet with PPL Montana, LLC (PPL Montana) and the Confederated Salish and Kootenai Tribes to discuss issues related to PPL Montana's petition for a declaratory order concerning provisions of the license for Kerr Hydroelectric Project No. 5.

e. All interested parties are hereby invited to attend.

Dated: May 23, 2012.
Kimberly D. Bose,
Secretary.

[FR Doc. 2012-13026 Filed 5-29-12; 8:45 am]

BILLING CODE 6717-01-P